FARM CREDIT ADMINISTRATION

12 CFR Part 615

RIN 3052-AD35

Organization; Funding and Fiscal Affairs, Loan Policies and Operations, and Funding Operations; Investment Eligibility; Correction

AGENCY: Farm Credit Administration.

ACTION: Final rule; correction.

SUMMARY: The Farm Credit Administration is correcting a final rule published in the Federal Register. On October 6, 2020, the Farm Credit Administration (FCA, we, or our) adopted a final rule that amended our investment regulations to allow Farm Credit System (FCS or System) associations to purchase and hold the portion of certain loans that non-FCS lenders originate and sell in the secondary market, and that the United States Department of Agriculture (USDA) unconditionally guarantees or insures as to the timely payment of principal and interest. In that publication, the amendatory instruction to revise paragraph (b)(3) of 12 CFR 615.5140 is incorrect. This document corrects that error.

DATES: November 6, 2020.

FOR FURTHER INFORMATION CONTACT: Richard A. Katz, Senior Counsel, Office of General Counsel, (703) 883-4020, TTY (703) 883-4056, Farm Credit Administration, 1501 Farm Credit Drive, McLean, VA 22102-5090.

SUPPLEMENTARY INFORMATION: In FR Doc. 2020-19711 “Organization; Funding and Fiscal Affairs, Loan Policies and Operations, and Funding Operations; Investment Eligibility” that was published in the Federal Register on Tuesday, October 6, 2020 at 85 FR 62945, in the third column on page 62949, correct amendatory instruction 2 to read as follows:

2. Amend § 615.5140 by revising paragraph (b)(2) and paragraph (b)(3) introductory text to read as follows:

Dated: October 16, 2020.
Dale Aultman,
Secretary, Farm Credit Administration Board.

[FR Doc. 2020-23315 Filed 11-5-20; 8:45 am]

BILLING CODE 6705-01-P